DEPARTMENT OF ENERGY

Federal Energy Regulatory Commission

[Project No. 6276-042]

Brooks Energy, LLC; Notice of Intent To Prepare an Environmental Assessment

On August 5, 2025, Brooks Energy, LLC (exemptee) filed an application to surrender its exemption from licensing for the Lockville Dam Project No. 6276. The project is located on the Deep River at a point where it forms the border between Chatham and Lee counties, North Carolina. The project does not occupy any federal lands.

The exemptee proposes to surrender the project exemption. The generating equipment has not operated since 2020 and the dam was breached in 2023. No modifications to the existing dam, buildings, structures, or ground disturbing activities are proposed. After the surrender of the exemption, the dam will be removed by American Rivers and Resource Environmental Solutions as part of American Rivers' Watershed Restoration of the Upper Cape Fear and Lower Deep Rivers project, with funding and collaborative support from the National Oceanic and Atmospheric Administration and U.S. Fish and Wildlife Service. A Notice of Application Accepted for Filing and Soliciting Comments, Motions to Intervene, and Protest was issued on August 5, 2025.

This notice identifies Commission staff's intention to prepare an environmental assessment (EA) analyzing the proposed action. The planned schedule for the completion of the EA is April 14, 2026.¹ Revisions to the schedule may be made as appropriate. The EA will be issued and made available for review by all interested parties. All comments filed on the EA will be reviewed by staff and considered in the Commission's final decision on the proceeding.

¹ The unique identification number for documents relating to this environmental review is EAXX-019-20-000-1762338428.

For public inquiries and assistance with making filings such as interventions, comments, or requests for rehearing, the public is encouraged to contact OPP at (202) 502-6595 or OPP@ferc.gov.

Any questions regarding this notice may be directed to Rebecca Martin at 202-502-6012 or Rebecca.martin@ferc.gov.

(Authority: 18 CFR 2.1)

Dated: December 9, 2025.
Debbie-Anne A. Reese,
Secretary.

[FR Doc. 2025-22728 Filed 12-12-25; 8:45 am]

BILLING CODE 6717-01-P